ENVIRONMENTAL PROTECTION AGENCY

[FRL-7541-4]

Whitehouse Waste Oil Pits Superfund Site; Notice of Proposed Settlement

AGENCY: Environmental Protection Agency (EPA).

ACTION: Notice.

SUMMARY: In accordance with section 122(i) of the Comprehensive Environmental Response, Compensation, and Liability Act, as amended (“CERCLA”), 42 U.S.C. 9622(i), notice is hereby given of a proposed administrative settlement with the Estate and Trust of David Bradley Pipkin for recovery of past and future response costs concerning the Whitehouse Waste Oil Pits Superfund Site near Jacksonville, Duval County, Florida. The Agreement requires the Estate and Trust of David Bradley Pipkin to pay $100,000 to resolve their liability at the Site. EPA will consider Public comments on the proposed settlement until September 8, 2003. EPA may modify or withdraw its consent to the settlement if comments received disclose facts or considerations which indicate that the settlement is inappropriate, improper, or inadequate. Copies of the proposed settlement are available from: Ms. Paula V. Batchelor, U.S. Environmental Protection Agency, Region IV, Waste Management Division, 61 Forsyth Street, SW., Atlanta, Georgia 30303, 404/562-8887.

Written comments may be submitted to Ms. Batchelor at the above address within 30 days of the date of publication.

Dated: July 24, 2003.
Archie Lee,
Chief, CERCLA Program Services Branch, Waste Management Division.

[FR Doc. 03-20162 Filed 8-6-03; 8:45 am]

BILLING CODE 6560-50-P